DEPARTMENT OF AGRICULTURE

Rural Utilities Service

[Docket No. RUS-22-AGENCY-0035]

60-Day Notice of Proposed Information Collection: Special Evaluation Assistance for Rural Communities and Households Program (SEARCH); OMB Control No.: 0572-0146

AGENCY: Rural Utilities Service, USDA.

ACTION: Notice; request for comments.

SUMMARY: In accordance with the Paperwork Reduction Act of 1995, as amended, the Rural Utilities Service, an agency of the United States Department of Agriculture's (USDA), invites comments on this information collection for which the Agency intends to request approval from the Office of Management and Budget (OMB).

DATES: Comments on this notice must be received by September 19, 2022 to be assured of consideration.

ADDRESSES: Comments may be submitted electronically by the Federal eRulemaking Portal: Go to http://www.regulations.gov and, in the “Search Field” box, labeled “Search for Rules, Proposed Rules, Notices or Supporting Documents,” enter the following docket number: (RUS-22-AGENCY-0035). To submit or view public comments, click the “Search” button, select the “Documents” tab, then select the following document title: (60-Day Notice of Proposed Information Collection: Special Evaluation Assistance for Rural Communities and Households Program (SEARCH); OMB Control No.: 0572-0146) from the “Search Results” and select the “Comment” button. Before inputting your comments, you may also review the “Commenter's Checklist” (optional). Insert your comments under the “Comment” title, click “Browse” to attach files (if available). Input your email address and select “Submit Comment.”

Information on using Regulations.gov, including instructions for accessing documents, submitting comments, and viewing the docket after the close of the comment period, is available through the site's “FAQ” link.

Other Information: Additional information about Rural Development and its programs is available on the internet at https://www.rd.usda.gov.

All comments will be available for public inspection online at the Federal eRulemaking Portal (https://www.regulations.gov).

FOR FURTHER INFORMATION CONTACT: Crystal Pemberton, Management Analyst Branch 1, Rural Development Innovation Center—Regulations Management Division, United States Department of Agriculture, 1400 Independence Avenue SW, South Building, Washington, DC 20250-1522. Telephone: (202) 260-8621, Email: Crystal.Pemberton@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that the Agency is submitting to OMB for an extension.

Title: Special Evaluation Assistance for Rural Communities and Household Program (SEARCH).

OMB Control Number: 0572-0146.

Expiration Date of Approval: November 30, 2022.

Type of Request: Revision of currently approved package.

Estimate of Burden: Public reporting burden for this collection of information is estimated to average 6 hours per responses.

Respondents: Public Bodies; Indian Tribes; Not-for-Profit Organizations.

Estimated Number of Respondents: 88.

Estimated Number of Responses per Respondent: 22.

Estimated Total Annual Burden of Respondents: 6,263.

Abstract: The Food, Conservation and Energy Act of 2008, Public Law 110-246 (Farm Bill) amended Section 306(a)(2) of the Consolidated Farm and Rural Development Act (CONACT) (7 U.S.C. 1926 (a)(2)). The amendment created a grant program to make Special Evaluation Assistance for Rural Communities and Households (SEARCH) Program grants. Under the SEARCH program, the Secretary may make predevelopment and planning grants to public or quasi-public agencies, organizations operated on a not-for-profit basis or Indian tribes on Federal and State reservations and other federally recognized Indian tribes. The grant recipients shall use the grant funds for feasibility studies, design assistance, and development of an application for financial assistance to financially distressed communities in rural areas with populations of 2,500 or fewer inhabitants for water and waste disposal projects as authorized in Sections 306(a)(1), 306(a)(2) and 306(a)(24) of the CONACT. The reporting burden covered by this collection of information consists of forms, documents and written burden to support a request for funding for a SEARCH loan.

Comments are invited on:

(a) whether the collection of information is necessary for the proper performance of the functions of the agency, including whether the information will have practical utility;

(b) the accuracy of the agency's estimate of burden including the validity of the methodology and assumption used;

(c) ways to enhance the quality, utility, and clarity of the information to be collected; and

(d) ways to minimize the burden of the collection of information on those who are to respond, including through the use of appropriate automated, electronic, mechanical, or other technological collection techniques on other forms and information technology.

Copies of this information collection can be obtained from Crystal Pemberton, Management Analyst Branch 1, Rural Development Innovation Center—Regulations Management Division, United States Department of Agriculture, 1400 Independence Avenue SW, South Building, Washington, DC 20250-1522. Telephone: (202) 260-8621, Email: Crystal.Pemberton@usda.gov.

All responses to this notice will be summarized and included in the request for OMB approval. All comments will also become a matter of public record.

Christopher A. McLean,
Acting Administrator, Rural Utilities Service.

[FR Doc. 2022-15614 Filed 7-20-22; 8:45 am]

BILLING CODE 3410-15-P